DEPARTMENT OF ENERGY

Federal Energy Regulatory Commission

[Docket No. RP99-322-005]

Northern Border Pipeline Company; Notice of Filing of Refund Report

July 30, 2001.

Take notice that on May 10, 2001, Northern Border Pipeline Company (Northern Border) tendered for filing a billing adjustment and refund report.

Northern Border states that this filing is being made in compliance with a letter order issued December 13, 2000, in Docket No. RP99-322-000, et al. The December 13, 2000 order requires Northern Border to make refunds for the period December 1, 2000 through January 31, 2001.

Northern Border states that a copy of its filing was served on all parties included on the official service list maintained by the Secretary in this proceeding.

Any person desiring to protest said filing should file a protest with the Federal Energy Regulatory Commission, 888 First Street, NE., Washington, DC 20426, in accordance with Section 385.211 of the Commission's Rules and Regulations. All such protests must be filed on or before August 3, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19449 Filed 8-2-01; 8:45 am]

BILLING CODE 6717-01-P